DEPARTMENT OF HEALTH AND HUMAN SERVICES

Food and Drug Administration

[Docket No. 2003N-0016]

Medical Devices; Revised MedWatch Forms; Availability

Correction

In notice document 04-3333 beginning on page 7490 in the issue of Tuesday, February 17, 2004 make the following correction:

On page 7492, in the first column, in the first paragragh, in the 13th and 14th lines “[insert date 6 months after date of publication in the Federal Register]” should read “August 17, 2004.”

[FR Doc. C4-3333 Filed 2-25-04; 8:45 am]

BILLING CODE 1505-01-D